DEPARTMENT OF STATE

[Public Notice 8519]

In the Matter of the Designation of Boko Haram Also Known as Nigerian Taliban Also Known as Jama'atu Ahlus-Sunnah Lidda'Awati Wal Jihad Also Known as Jama'atu Ahlis Sunna Lidda'awati wal-Jihad Also Known as People Committed to the Prophet's Teachings for Propagation and Jihad Also Known as Sunni Group for Preaching and Jihad as a Foreign Terrorist Organization Pursuant to Section 219 of the Immigration and Nationality Act, as Amended

Based upon a review of the Administrative Record assembled in this matter and in consultation with the Attorney General and the Secretary of the Treasury, I conclude that there is a sufficient factual basis to find that the relevant circumstances described in section 219 of the Immigration and Nationality Act, as amended (hereinafter “INA”) (8 U.S.C. 1189), exist with respect to Boko Haram, also known as Nigerian Taliban, also known as Jama'atu Ahlus-Sunnah Lidda'Awati Wal Jihad, also known as Jama'atu Ahlis Sunna Lidda'awati wal-Jihad, also known as People Committed to the Prophet's Teachings for Propagation and Jihad, also known as Sunni Group for Preaching and Jihad.

Therefore, I hereby designate the aforementioned organization and its aliases as a Foreign Terrorist Organization pursuant to section 219 of the INA.

This determination shall be published in the Federal Register.

Dated: November 5, 2013.
John F. Kerry,
Secretary of State.

[FR Doc. 2013-27296 Filed 11-13-13; 8:45 am]

BILLING CODE 4710-03-P